SECURITIES AND EXCHANGE COMMISSION

[Release No. 35-27161]

Filings Under the Public Utility Holding Company Act of 1935, as Amended (“Act”)

March 31, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by April 25, 2000, to the Secretary, Securities and Exchange Commission, Washington, D.C. 20549-0609, and serve a copy on the relevant applicant(s) and/or declarant(s) at the address(es) specified below. Proof of service (by affidavit or, in the case of an attorney at law, by certificate) should be filed with the request. Any request for hearing should identify specifically the issues of facts or law that are disputed. A person who so requests will be notified or any hearing, if ordered, and will receive a copy of any notice or order issued in the matter. After April 25, 2000, the application(s) and/or declaration(s), as filed or as amended, may be granted and/or permitted to become effective.

GPU, Inc. (70-9629)

GPU, Inc. (“GPU”), 300 Madison Avenue, Morristown, New Jersey 07960, a registered holding company, has filed with this Commission an application under sections 9(a) and 10 and rule 54 of the Act.

GPU seeks authorization to acquire a 36% interest in a nonutility subsidiary. GPU and several of its subsidiary companies ¹ currently purchase workers compensation insurance from Utilities Mutual Insurance Company (“UMI”), a captive mutual insurer providing insurance to a limited number of companies.² UMI is in the process of obtaining approval from the New York States Department of Insurance to convert from a mutual company to stock company status. It is contemplated, that once UMI becomes a stock company, each policy holder will receive shares of common stock, $.01 par value, of a newly formed holding company parent, UMICO Holdings, Inc. (“UMICO”), in proportion to its current ownership interest in UMI. GPU and its subsidiaries currently have an aggregate ownership interest in UMI of approximately 36% and would, therefore, receive approximately 36% of UMICO's voting shares upon UMI's demutualization. GPU would not pay any other consideration for the UMICO shares.

¹ The GPU subsidiaries that purchase workers compensation insurance from UMI as the following: GPU Advanced Resources, Inc., Metropolitan Edison Company, Pennsylvania Electric Company, Jersey Central Power & Light Company, GPU International, Inc., GPU Service, Inc., GPU Nuclear, Inc., Prime Energy Limited Partnership (“Prime”) and Onondaga Cogeneration Limited Partnership (“Onondaga”) (collectively, “Subsidiaries”).

² In addition to GPU and its Subsidiaries, the current UMI members and policy holders are the following: South Jersey Industries, Inc., Central Hudson Gas & Electric Corp., Empire State Electric Energy Research Corp., Griffth Oil Co., Long Island Water Corp., Middleburg Telephone, New York State Electric & Gas Corp., Niagara Mohawk Power Corp., Rochester Gas & Electric Corp. and Fi-Net Technologies.

In connection with the demutualization, GPU expects UMI to sell its entire insurance portfolio to Cologne Re, which will assume all UMI obligations and liabilities for outstanding claims and future claims under policies written by UMI. GPU states that UMI will not conduct any active business. The workers compensation insurance previously provided by UMI will instead be provide by an affiliate of Cologne Re to the UMICO shareholders, at least through 2003. UMI and UMICO will not be liquidated and dissolved and will remain in existence until all claims or potential claims covered by outstanding UMI policies have either been resolved or adequately reinsured. Upon dissolution, the UMICO shareholders will be entitled to their pro rata shares of any remaining UMI surplus.

Prior to demutualization, the GPU subsidiaries (other than Prime and Onondaga) have assigned their present interests in UMI to GPU. In contemplation of the demutualization, GPU and other utility policy holders have entered into a subscription agreement providing for their purchase of shares of UMICO in proportion to their respective interests in UMI. Under the subscription agreement, GPU has agreed to acquire approximately 36.52% of UMICO in exchange for its present interest in UMI. Following the acquisition, UMICO will become a nonutility subsidary of GPU.

For the Commission by the Division of Investment Management, under delegated authority.
Jonathan G. Katz,
Secretary.

[FR Doc. 00-8618 Filed 4-6-00; 8:45 am]

BILLING CODE 8010-01-M